Title 3—

The President

Proclamation 8804 of April 23, 2012

National Crime Victims’ Rights Week, 2012

By the President of the United States of America

A Proclamation

For more than three decades, advocates from every corner of America have worked to reinforce rights, services, and support for victims of crime. Our Nation stands stronger for their efforts. Today, thousands of victim assistance programs empower survivors with the tools to rebuild their lives. Yet, when only about half of all violent crimes are reported to the police and many victims struggle to secure the help they need, we know we must do more. This week, we rededicate ourselves to securing the full measure of justice for every crime victim, resolving disparities in our criminal justice system, and preventing crimes before they occur.

The incidence of crime in the United States is an affront to our national conscience and cannot be ignored. Millions of Americans experience violent or property crime victimization every year, and still more are impacted as they help a loved one in their hour of need. Sadly, children, seniors, persons with disabilities, immigrants, and traditionally underserved communities continue to experience disproportionately high rates of victimization. Moreover, women suffer the vast majority of intimate partner violence, sexual assault, and rape. These outcomes are deplorable, and we must come together to build communities where all people have the opportunity to live in safety and security.

My Administration is committed to realizing that vision. With leadership from the Department of Justice, we are investing in programs to prevent crime, drug abuse, and violence in communities across our Nation. We are partnering with organizations and agencies at every level of government to develop robust victim services, support law enforcement, and strengthen our criminal justice system. We issued a revised definition of rape that will shed new light on how often this crime occurs, and we continue to combat sexual violence and expand support for survivors. From disrupting human trafficking networks, to fighting financial fraud, to empowering the millions who are affected by crime every year, my Administration is working to bring more Americans the services and protection they deserve. For additional information, resources, and assistance, visit www.CrimeVictims.gov.

During National Crime Victims’ Rights Week, we commemorate the efforts of all who bring hope to crime victims during their darkest hour. As we reflect on the progress we have made toward ensuring fair treatment and full support for all crime victims, let us renew that fundamental American impulse to stand with those in need.

NOW, THEREFORE, I, BARACK OBAMA, President of the United States of America, by virtue of the authority vested in me by the Constitution and the laws of the United States, do hereby proclaim April 22 through April 28, 2012, as National Crime Victims’ Rights Week. I call upon all Americans to observe this week by participating in events that raise awareness of victims’ rights and services, and by volunteering to serve victims in their time of need.

IN WITNESS WHEREOF, I have hereunto set my hand this twenty-third day of April, in the year of our Lord two thousand twelve, and of the Independence of the United States of America the two hundred and thirty-sixth.

[FR Doc. 2012-10401

Filed 4-26-12; 11:15 am]

Billing code 3295-F2-P